Title 3—

The President

Proclamation 7665 of April 18, 2003

National Park Week, 2003

By the President of the United States of America

A Proclamation

America is a land of majestic beauty, and we are blessed with immeasurable natural wealth. Americans are united in the belief that we must preserve this treasured heritage and conserve these natural resources for the benefit and enjoyment of the American people.

As a Nation, we can be proud of our diverse parklands, ranging from the rugged wilderness of snow-capped mountains, thick forests, sweeping desert sands, and remote canyons to national symbols such as the Statue of Liberty and the Lincoln Memorial. Our National Park Service has a long and important history. In 1864, the Federal Government ensured a grand natural landscape for generations to come when it designated Yosemite Valley and the Mariposa Grove of giant sequoias to be “held for public use, resort, and recreation . . . inalienable for all time.” Eight years later in 1872, the Congress created the first national park in the Yellowstone region of the Territories of Montana and Wyoming. Finally, in 1916, the National Park Service was established to efficiently administer our growing number of parks, which today includes 388 national parks on more than 84 million acres of public lands. These lands continue to be cherished by all our citizens.

The full and safe enjoyment of our national parks depends on dedicated National Park Service employees and thousands of people who volunteer their time to conserve these sites. This year's theme for National Park Week, “Celebrating Volunteers,” recognizes their valuable contributions to conserving and maintaining our natural, cultural, and historical heritage.

Across the country, my Administration is promoting volunteer service, encouraging public-private partnerships, and advocating community-based interest in our national parks. We are committed to ensuring that our land is conserved, our air is clean, our water is pure, and our parks are open and accessible to all Americans. Recently, my Administration re-launched Take Pride in America, a national partnership that engages volunteers from every corner of America to enhance our parks and other public lands. As part of the USA Freedom Corps initiative, Take Pride in America will encourage more Americans to take part in volunteer service opportunities available on public lands.

My Administration has also supported improvements in park management and is working to reduce the park maintenance backlog. My fiscal year 2004 budget includes over $1 billion to reduce the maintenance backlog, an increase of $180 million over last year's request, along with $76 million, a $9 million increase over last year's request, for the National Park Service Natural Resource Challenge to monitor “vital signs” of conditions in our parks. This initiative will help conserve native species and habitats, maintain our natural resources, eradicate invasive species, and provide the public with information about resources in our parks. In addition, my Administration has developed the website www.recreation.gov, which is a user-friendly way to obtain information about recreational opportunities in the national parks and other public recreation sites.

As we observe National Park Week, I encourage all citizens to explore our national parks and to commit to the conservation and stewardship of these timeless treasures. By working together, we can ensure that these special places thrive for generations to come.

NOW, THEREFORE, I, GEORGE W. BUSH, President of the United States of America, by virtue of the authority vested in me by the Constitution and laws of the United States, do hereby proclaim April 21 through April 27, 2003, as National Park Week. I call upon the people of the United States to join me in recognizing the importance of our national parks and to learn more about these areas of beauty, their historical significance, and the many ways citizens can volunteer to help preserve these precious resources.

IN WITNESS WHEREOF, I have hereunto set my hand this eighteenth day of April, in the year of our Lord two thousand three, and of the Independence of the United States of America the two hundred and twenty-seventh.

B

[FR Doc. 03-10195

Filed 4-22-03; 8:45 am]

Billing code 3195-01-P